DEPARTMENT OF COMMERCE

International Trade Administration

[A-570-042, C-570-043]

Stainless Steel Sheet and Strip From the People's Republic of China: Final Scope Ruling and Final Affirmative Determination of Circumvention for Exports From the Socialist Republic of Vietnam

AGENCY: Enforcement and Compliance, International Trade Administration, Department of Commerce.

SUMMARY: The U.S. Department of Commerce (Commerce) determines that certain stainless steel sheet and strip (SSSS) of Chinese-origin that has undergone further processing in the Socialist Republic of Vietnam (Vietnam) is merchandise covered by the scope of the antidumping duty (AD) and countervailing duty (CVD) orders on SSSS from the People's Republic of China (China). Additionally, Commerce determines that SSSS that is completed in Vietnam using certain non-subject stainless steel flat-rolled inputs sourced from China, is circumventing the AD/CVD orders on SSSS from China. As a result, SSSS of Chinese-origin that has undergone further processing or completion in Vietnam will be subject to suspension of liquidation effective May 15, 2020.

DATES: Applicable March 29, 2023.

FOR FURTHER INFORMATION CONTACT: Blaine Wiltse, Office of the Deputy Assistant Secretary for AD/CVD Operations, Enforcement and Compliance, International Trade Administration, U.S. Department of Commerce, 1401 Constitution Avenue NW, Washington, DC 20230; telephone: (202) 482-6345.

SUPPLEMENTARY INFORMATION:

Background

On September 15, 2022, Commerce published the preliminary scope ruling and preliminary affirmative determination of circumvention of the AD/CVD orders on SSSS from China.¹ In the Preliminary Determinations, we preliminarily found, pursuant to 19 CFR 351.225(k)(1), that SSSS of Chinese-origin that has undergone further processing in Vietnam is covered by the scope of the Orders.² Additionally, pursuant to section 781(b) of the Tariff Act of 1930, as amended (the Act), we preliminarily determined that SSSS completed in Vietnam using certain non-subject stainless steel flat-rolled inputs ³ of Chinese-origin is circumventing the Orders.⁴

¹ See Stainless Steel Sheet and Strip from the People's Republic of China: Preliminary Scope Ruling and Preliminary Affirmative Determination of Circumvention for Exports from the Socialist Republic of Vietnam, 87 FR 56626 (September 15, 2022) (Preliminary Determinations), and accompanying Preliminary Decision Memorandum (PDM).

² See Preliminary Determinations, 87 FR at 56627, and PDM at 27-28.

³ The term “certain non-subject stainless steel flat-rolled inputs” refers to stainless steel flat-rolled products that are not further worked than hot-rolled and/or of a thickness greater than 4.75 millimeters.

⁴ See Preliminary Determinations, 87 FR at 56627, and PDM at 27-28.

From December 5 through 9, 2022, Commerce conducted on-site verifications of the information submitted by the mandatory respondents, POSCO VST Co, Ltd. and POSCO Vietnam Processing Center, Ltd., at these companies' facilities located outside Ho Chi Minh City, Vietnam.⁵ On December 29, 2022, Commerce extended the deadline for the final determinations of these circumvention and scope inquiries to April 4, 2023.⁶

⁵ See Memoranda, “Verification of the Questionnaire Responses of POSCO VST Co., Ltd. in the Circumvention Inquiry of the Antidumping and Countervailing Duty Orders on Stainless Steel Sheet and Strip from the People's Republic of China Further Processed In, and Exported from, the Socialist Republic of Vietnam,” dated February 3, 2023; and, “Verification of the Questionnaire Responses of POSCO Vietnam Processing Center, Ltd. in the Circumvention Inquiry of the Antidumping and Countervailing Duty Orders on Stainless Steel Sheet and Strip from the People's Republic of China Further Processed In, and Exported from, the Socialist Republic of Vietnam,” dated February 3, 2023.

⁶ See Memorandum, “Stainless Steel Sheet and Strip from the People's Republic of China: Extension of Deadline for Issuing the Final Determinations in the Circumvention and Scope Inquiries,” dated December 29, 2022.

On February 13, 2023, we received a case brief from Outokumpu Stainless USA LLC (Outokumpu), in which Outokumpu expressed its support of the Preliminary Determinations.⁷ Commerce also received a letter in support of Outokumpu's case brief from North American Stainless.⁸ No other interested parties commented on the Preliminary Determinations. Accordingly, we received no comments in opposition to our Preliminary Determinations and no requests for a public hearing from interested parties within the time period set forth in the Preliminary Determinations. Given that we received no comments in opposition to the Preliminary Determinations, we do not find it necessary to discuss these comments, which were in support of Commerce's decisions.

⁷ See Outokumpu's Letter, “Stainless Steel Sheet and Strip from the People's Republic of China: Case Brief Submitted on Behalf of Outokumpu Stainless USA LLC,” dated February 13, 2023.

⁸ See North American Stainless' Letter, “Stainless Steel Sheet and Strip from the People's Republic of China: North American Stainless' Submission in Support of Outokumpu's Case Brief,” dated February 13, 2023.

Scope of the Orders ⁹

⁹ See Stainless Steel Sheet and Strip from the People's Republic of China: Antidumping Duty Order, 82 FR 16160 (April 3, 2017); see also Stainless Steel Sheet and Strip from the People's Republic of China: Countervailing Duty Order, 82 FR 16166 (April 3, 2017) (collectively, Orders).

The product covered by the Orders is stainless steel sheet and strip. Subject merchandise includes SSSS that has been further processed in a third country, including but not limited to cold-rolling, annealing, tempering, polishing, aluminizing, coating, painting, varnishing, trimming, cutting, punching, and/or slitting, or any other processing that would not otherwise remove the merchandise from the scope of the Orders if performed in the country of manufacture of the SSSS. Excluded from the scope of the Orders are the following: (1) sheet and strip that is not annealed or otherwise heat treated and not pickled or otherwise descaled; (2) plate (i.e., flat-rolled stainless steel products of a thickness of 4.75 mm or more); and (3) flat wire (i.e., cold-rolled sections, with a mill edge, rectangular in shape, of a width of not more than 9.5 mm). For a complete description of the scope of the Orders, see Appendix I.¹⁰

¹⁰ See also Preliminary Determinations PDM at 5-6.

Merchandise Subject to the Circumvention Inquiry

This circumvention inquiry covers SSSS completed in Vietnam using certain non-subject stainless steel flat-rolled inputs of Chinese-origin that is subsequently exported from Vietnam to the United States.

Merchandise Subject to the Scope Inquiry

This scope inquiry covers SSSS of Chinese-origin that has undergone further processing in Vietnam (including but not limited to cold-rolling, annealing, tempering, polishing, aluminizing, coating, painting, varnishing, trimming, cutting, punching, and/or slitting, or any other processing that would not otherwise remove the merchandise from the scope of the Orders) that is subsequently exported to the United States.

Methodology

We conducted these circumvention and scope inquiries in accordance with section 781(b) of the Act, and 19 CFR 351.225(h), 351.225(b), and 351.225(k)(1).¹¹ For a full description of the methodology underlying Commerce's final determinations, see the Preliminary Decision Memorandum.¹² The Preliminary Decision Memorandum is a public document and on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

¹¹ On September 20, 2021, Commerce significantly revised its regulations pertaining to circumvention and scope inquiries, with an effective date of November 4, 2021. See Regulations to Improve Administration and Enforcement of Antidumping and Countervailing Duty Laws, 86 FR 52300 (September 20, 2021). The newly promulgated 19 CFR 351.226 applies to circumvention inquiries for which a circumvention request is filed, as well as any circumvention inquiry self-initiated by Commerce, on or after November 4, 2021. The amendments to 19 CFR 351.225 apply to scope inquiries for which a scope ruling application is filed, as well as any scope inquiry self-initiated by Commerce, on or after November 4, 2021. We note that these circumvention and scope inquiries were initiated prior to the effective date of the new regulations, and, thus, any reference to the regulations is to the prior version of the regulations.

¹² See Preliminary Determinations PDM at 6-28.

Final Determinations

As detailed in the Preliminary Determinations, pursuant to 19 CFR 351.225(k)(1), we continue to find that SSSS of Chinese-origin that has undergone further processing in Vietnam is covered by the scope of the Orders. Additionally, pursuant to section 781(b) of the Act, we determine that SSSS completed in Vietnam using certain non-subject stainless steel flat-rolled inputs of Chinese-origin is circumventing the Orders. Therefore, we determine that it is appropriate to include this merchandise within the scope of the Orders and to instruct U.S. Customs and Border Protection (CBP) to continue to suspend any entries of merchandise produced using Chinese-sourced inputs and exported from Vietnam to the United States. For a full description of the methodology underlying our conclusions, see the Preliminary Decision Memorandum.

Further, because Hoangvu Co., Ltd. (Hoangvu) and SK Networks Co., Ltd. (SK Networks) did not cooperate to the best of their ability in responding to Commerce's requests for information, we have based our determinations with respect to these companies on the facts available, with adverse inferences, pursuant to sections 776(a) and (b) of the Act. In particular, as adverse facts available (AFA), we find that the SSSS exported to the United States by Hoangvu and SK Networks from Vietnam is merchandise covered by the scope of the Orders. Additionally, as AFA, we find that finished SSSS products exported by Hoangvu and SK Networks are completed in Vietnam using certain non-subject stainless steel flat-rolled inputs of Chinese-origin, and thus, are circumventing the Orders. Furthermore, as AFA, we continue to determine that Hoangvu and SK Networks, and their importers, are ineligible to certify that the SSSS exported by Hoangvu and SK Networks from Vietnam was produced using non-Chinese sourced inputs.

Continued Suspension of Liquidation

In accordance with 19 CFR 351.225(l)(3), based on these final determinations in these circumvention and scope inquiries, Commerce will direct CBP to continue to suspend liquidation and to require a cash deposit of estimated duties on unliquidated entries of SSSS completed in Vietnam using inputs manufactured in China, subsequently exported from Vietnam to the United States, and entered, or withdrawn from warehouse, for consumption on or after May 15, 2020, the date of publication of the notice of initiation of these scope and circumvention inquiries.¹³ The suspension of liquidation will remain in effect until further notice.

¹³ See Stainless Steel Sheet and Strip from the People's Republic of China: Initiation of Anti-Circumvention and Scope Inquiries on the Antidumping Duty and Countervailing Duty Orders, 85 FR 29401 (May 15, 2020).

SSSS that is further processed or completed in Vietnam from stainless steel flat-rolled inputs that are not of Chinese-origin is not subject to these inquiries. Therefore, cash deposits are not required for such merchandise subject to certification requirements set forth below.¹⁴

¹⁴ See Appendix II for the certification requirements, and Appendixes III and IV for the Importer and Exporter Certifications, respectively.

For these final determinations, we continue to implement the certification process outlined in the Preliminary Determinations. Specifically, if an importer of SSSS from Vietnam claims that the SSSS was not produced using any stainless steel flat-rolled inputs of Chinese-origin, in order to not be subject to cash deposit requirements, the importer and exporter must meet the certification and documentation requirements described in Appendix II. An exporter of SSSS produced in Vietnam claiming that its SSSS was not produced using any stainless steel flat-rolled inputs of Chinese-origin must prepare and maintain an Exporter Certification and documentation supporting the Exporter Certification (see Appendix IV). Additionally, importers of such SSSS must prepare and maintain an Importer Certification (see Appendix III), as well as documentation supporting the Importer Certification. In addition to the Importer Certification, the importer must also maintain a copy of the Exporter Certification (see Appendix IV) and relevant supporting documentation from its exporter of SSSS produced from stainless steel flat-rolled inputs that are not of Chinese-origin.

As described above, the two uncooperative and non-responsive companies (i.e., Hoangvu and SK Networks), along with their importers, are not eligible to participate in the certification process at this time. These companies may request reconsideration of our denial of the certification process in a future segment of the proceeding, i.e., a changed circumstances review or administrative review.¹⁵

¹⁵ See, e.g., Diamond Sawblades and Parts Thereof from the People's Republic of China: Final Determination of Anti-Circumvention Inquiry, 85 FR 9737, 9739 (February 20, 2020) (“However, Protech may request reconsideration of our denial of the certification process in a future segment of the proceeding, i.e., a changed circumstances review or administrative review.”); see also Diamond Sawblades and Parts Thereof from the People's Republic of China: Final Results of Antidumping Duty Changed Circumstances Review, 85 FR 86905 (December 31, 2020) (“. . . Protech is eligible to participate in a certification process because Protech has demonstrated that it can identify diamond sawblades that it produced in Canada using non-Chinese cores and Chinese segments.”).

Administrative Protective Order

This notice will serve as the only reminder to parties subject to administrative protective order (APO) of their responsibility concerning the destruction of proprietary information disclosed under APO in accordance with 19 CFR 351.305(a)(3). Timely written notification of return/destruction or APO materials or conversion to judicial protective order is hereby requested. Failure to comply with the regulations and the terms of an APO is a sanctionable violation.

Notification to Interested Parties

These final scope and affirmative circumvention determinations are issued and published in accordance with section 781(b) of the Act and 19 CFR 351.225(f) and (h).

Dated: March 23, 2023.
Lisa W. Wang,
Assistant Secretary for Enforcement and Compliance.

Appendix I

Scope of the Orders

The merchandise covered by the Orders is stainless sheet and strip, whether in coils or straight lengths. Stainless steel is an alloy steel containing, by weight, 1.2 percent or less of carbon and 10.5 percent or more of chromium, with or without other elements. The subject sheet and strip is a flat-rolled product with a width that is greater than 9.5 mm and with a thickness of 0.3048 mm and greater but less than 4.75 mm, and that is annealed or otherwise heat treated, and pickled or otherwise descaled. The subject sheet and strip may also be further processed (e.g., cold-rolled, annealed, tempered, polished, aluminized, coated, painted, varnished, trimmed, cut, punched, or slit, etc.) provided that it maintains the specific dimensions of sheet and strip set forth above following such processing. The products described include products regardless of shape, and include products of either rectangular or non-rectangular cross-section where such cross-section is achieved subsequent to the rolling process, i.e., products which have been “worked after rolling” (e.g., products which have been beveled or rounded at the edges).

For purposes of the width and thickness requirements referenced above: (1) where the nominal and actual measurements vary, a product is within the scope if application of either the nominal or actual measurement would place it within the scope based on the definitions set forth above; and (2) where the width and thickness vary for a specific product (e.g., the thickness of certain products with non-rectangular cross-section, the width of certain products with non-rectangular shape, etc.), the measurement at its greatest width or thickness applies.

All products that meet the written physical description, and in which the chemistry quantities do not exceed any one of the noted element levels listed above, are within the scope of the Orders unless specifically excluded.

Subject merchandise includes stainless sheet and strip that has been further processed in a third country, including but not limited to cold-rolling, annealing, tempering, polishing, aluminizing, coating, painting, varnishing, trimming, cutting, punching, and/or slitting, or any other processing that would not otherwise remove the merchandise from the scope of the Orders if performed in the country of manufacture of the stainless sheet and strip.

Excluded from the scope of the Orders are the following: (1) sheet and strip that is not annealed or otherwise heat treated and not pickled or otherwise descaled; (2) plate (i.e., flat-rolled stainless steel products of a thickness of 4.75 mm or more); and (3) flat wire (i.e., cold-rolled sections, with a mill edge, rectangular in shape, of a width of not more than 9.5 mm).

The products under the Orders are currently classifiable under Harmonized Tariff Schedule of the United States (HTSUS) subheadings 7219.13.0031, 7219.13.0051, 7219.13.0071, 7219.13.0081, 7219.14.0030, 7219.14.0065, 7219.14.0090, 7219.23.0030, 7219.23.0060, 7219.24.0030, 7219.24.0060, 7219.32.0005, 7219.32.0020, 7219.32.0025, 7219.32.0035, 7219.32.0036, 7219.32.0038, 7219.32.0042, 7219.32.0044, 7219.32.0045, 7219.32.0060, 7219.33.0005, 7219.33.0020, 7219.33.0025, 7219.33.0035, 7219.33.0036, 7219.33.0038, 7219.33.0042, 7219.33.0044, 7219.33.0045, 7219.33.0070, 7219.33.0080, 7219.34.0005, 7219.34.0020, 7219.34.0025, 7219.34.0030, 7219.34.0035, 7219.34.0050, 7219.35.0005, 7219.35.0015, 7219.35.0030, 7219.35.0035, 7219.35.0050, 7219.90.0010, 7219.90.0020, 7219.90.0025, 7219.90.0060, 7219.90.0080, 7220.12.1000, 7220.12.5000, 7220.20.1010, 7220.20.1015, 7220.20.1060, 7220.20.1080, 7220.20.6005, 7220.20.6010, 7220.20.6015, 7220.20.6060, 7220.20.6080, 7220.20.7005, 7220.20.7010, 7220.20.7015, 7220.20.7060, 7220.20.7080, 7220.90.0010, 7220.90.0015, 7220.90.0060, and 7220.90.0080. Although the HTSUS subheadings are provided for convenience and customs purposes, the written description of the scope of the Orders is dispositive.

Appendix II

Certification Requirements

If a company imports stainless steel sheet and strip (SSSS) from Vietnam and claims that the entry was not produced from Chinese-sourced stainless steel flat-rolled inputs and, thus, is not subject to the antidumping duty (AD) and countervailing duty (CVD) orders ¹⁶ on SSSS from China, then the importer is required to complete and maintain the Importer Certification attached hereto as Appendix III and retain all supporting documentation. The importer is further required to maintain a copy of the Exporter Certification, attached as Appendix IV, and retain all supporting documentation. The Importer Certification must be completed, signed, and dated by the time of filing of the entry summary for the relevant importation. Where the importer uses a broker to facilitate the entry process, it should obtain the entry number from the broker. Agents of the importer, such as brokers, however, are not permitted to make this certification on behalf of the importer.

¹⁶ See Stainless Steel Sheet and Strip from the People's Republic of China: Antidumping Duty Order, 82 FR 16160 (April 3, 2017); see also Stainless Steel Sheet and Strip from the People's Republic of China: Countervailing Duty Order, 82 FR 16166 (April 3, 2017) (collectively, Orders).

All importers of SSSS from Vietnam are eligible for the certification process detailed below, with the exception that entries of SSSS produced and/or exported by Hoangvu Co., Ltd. and SK Networks Co., Ltd. are ineligible for certification.

The exporter is required to complete and maintain the Exporter Certification, attached as Appendix IV, and is further required to provide the importer a copy of that certification and all supporting documentation (e.g., invoice, purchase order, production records, etc.). The Exporter Certification must be completed, signed, and dated by the time of shipment of the relevant entries (except as noted below). The Exporter Certification should be completed by the party selling the subject merchandise manufactured in Vietnam to the United States.

The importer will not be required to submit the certifications or supporting documentation to U.S. Customs and Border Protection (CBP) as part of the entry process. However, the importer and exporter will be required to present the certifications, and supporting documentation, to the U.S. Department of Commerce (Commerce) and/or CBP, as applicable, upon request by the respective agency. Additionally, the claims made in the certifications and any supporting documentation are subject to verification by Commerce and/or CBP. The importer and exporter are required to maintain the certifications and supporting documentation for the later of: (1) a period of five years from the date of entry; or (2) a period of three years after the conclusion of any litigation in United States courts regarding such entries.

For SSSS exported from Vietnam that was produced using Chinese-sourced stainless steel flat-rolled inputs subject to this inquiry that has been found to be circumventing the Orders, Commerce has established the following third-country case numbers in the Automated Commercial Environment (ACE): A-552-042 and C-552-043. For SSSS exported from Vietnam that is merchandise covered by the scope of the Orders, where the country of origin does not change for CBP's reporting purposes, importers should report such entries under the case numbers for the Orders: A-570-042 and C-570-043. For SSSS exported from Vietnam that is merchandise covered by the scope of the Orders, where the country-of-origin changes for CBP's reporting purposes, importers should report such entries under the following third-country case numbers: A-552-042 and C-552-043.

If it is determined that the certification and/or documentation requirements in a certification have not been met, Commerce intends to instruct CBP to suspend, under the appropriate case numbers, either those established for the Orders, A-570-042/C-570-043, or the third country case numbers, A-552-042/C-552-043, all unliquidated entries for which these requirements were not met and require the importer to post applicable AD and CVD cash deposits equal to the rates as determined by Commerce. Entries suspended under A-570-042/C-570-043/A-552-042/C-552-043 will be liquidated pursuant to applicable administrative reviews of the Orders or through the automatic liquidation process.

For shipments and/or entries suspended pursuant to the preliminary determinations of these scope and circumvention inquiries that were shipped and/or entered, or withdrawn from warehouse, for consumption during the period on or after May 15, 2020 (the date of initiation of these scope and circumvention inquiries) through the date of publication of the preliminary determination in the Federal Register, for which certifications are required, importers and exporters should complete the required certification, as soon as practicable but not later than 45 days after the publication of the preliminary determinations in the Federal Register. Accordingly, where appropriate, the relevant bullet in the certification should be edited to reflect that the certification was completed within this time frame. Specifically, exporters should complete the language in Paragraph G in the Exporter Certification that reads: “The shipments/products referenced herein shipped before mm/dd/yyyy, the date on which Commerce published notice of its preliminary scope and circumvention findings in the Federal Register. This certification was completed on mm/dd/yyyy, within 45 days of the Federal Register notice publication.” For such entries/shipments, importers and exporters each have the option to complete a blanket certification covering multiple entries/shipments, individual certifications for each entry/shipment, or a combination thereof. The Exporter Certifications should be maintained by both the importer and exporter and provided to CBP or Commerce only upon request by the respective agency. The exporter must provide the importer a copy of the Exporter Certification within 45 days of the publication of the preliminary determination in the Federal Register.

For shipments and/or entries suspended pursuant to the preliminary determinations of these scope and circumvention inquiries that were shipped and/or entered, or withdrawn from warehouse, for consumption within 30 days of the date of publication of the preliminary determination in the Federal Register, for which certifications are required, importers and exporters should complete the required certification, as soon as practicable but not later than 45 days after the publication of the preliminary determinations in the Federal Register. Accordingly, where appropriate, the relevant bullet in the certification should be edited to reflect that the certification was completed within this time frame. Specifically, exporters should complete the language in Paragraph G in the Exporter Certification that reads: “The shipments/products referenced herein shipped on mm/dd/yyyy. This certification was completed on mm/dd/yyyy, within 45 days of the date on which Commerce published its preliminary scope and circumvention findings in the Federal Register.” For such entries/shipments, importers and exporters each have the option to complete a blanket certification covering multiple entries/shipments, individual certifications for each entry/shipment, or a combination thereof. The Exporter Certifications should be maintained by both the importer and exporter and provided to CBP or Commerce only upon request by the respective agency. The exporter must provide the importer a copy of the Exporter Certification within 45 days of the publication of the preliminary determination in the Federal Register.

For shipments and/or entries after 30 days from the date of publication of the preliminary determination in the Federal Register, for which certifications are required, importers and exporters should complete the required certification at or prior to the date of entry summary and exporters should complete the required certification and provide it to the importer at or prior to the date of shipment. Specifically, exporters should complete the language in Paragraph G in the Exporter Certification that reads: “I understand that {EXPORTING COMPANY} must provide this Exporter Certification to the U.S. importer by the time of shipment.”

For unliquidated entries (and entries for which liquidation has not become final) of merchandise entered as non-AD/CVD type entries (e.g., type 01) that were shipped and/or entered, or withdrawn from warehouse, for consumption in the United States during the period, May 15, 2020 (the date of initiation of these scope and circumvention inquiries) through the date of publication of the preliminary determination in the Federal Register, that is merchandise covered by the scope of the Orders or was produced using Chinese-sourced stainless steel flat-rolled inputs subject to this inquiry that have been found to be circumventing the Orders, importers should file a Post Summary Correction with CBP, in accordance with CBP's regulations, regarding conversion of such entries from non-AD/CVD type entries to AD/CVD type entries (e.g., type 01 to type 03). For such shipments, the Exporter Certifications should be completed as soon as practicable, but not later than 45 days after publication of the preliminary determination in the Federal Register. Importers should report those AD/CVD type entries of merchandise that is covered by the scope of the Orders, under the case numbers for the Orders, A-570-042/C-570-043, or A-552-042/C-552-043, as appropriate. Importers should report those AD/CVD type entries that were produced using Chinese-sourced stainless steel flat-rolled inputs subject to this inquiry that have been found to be circumventing the Orders, using the third-country case numbers, A-552-042/C-552-043. Similarly, the importer should pay cash deposits on those entries consistent with the regulations governing post summary corrections that require payment of additional duties.

Appendix III

Importer Certification

I hereby certify that:

A. My name is {IMPORTING COMPANY OFFICIAL'S NAME} and I am an official of {IMPORTING COMPANY}, located at {ADDRESS OF IMPORTING COMPANY};

B. I have direct personal knowledge of the facts regarding the importation into the Customs territory of the United States of the stainless steel sheet and strip (SSSS) produced in Vietnam that entered under entry summary number(s), identified below, and are covered by this certification. “Direct personal knowledge” refers to facts the certifying party is expected to have in its own records. For example, the importer should have “direct personal knowledge” of the importation of the product (e.g., the name of the exporter) in its records;

C. I have personal knowledge of the facts regarding the production of the imported products covered by this certification. “Personal knowledge” includes facts obtained from another party, (e.g., correspondence received by the importer (or exporter) from the producer regarding the source of the SSSS inputs used to produce the imported products);

D. This certification applies to the following entries (repeat this block as many times as necessary):

Entry Summary #:

Entry Summary Line Item #:

Foreign Seller:

Foreign Seller's Address:

Foreign Seller's Invoice #:

Foreign Seller's Invoice Line Item #:

Country of Origin of Stainless Steel Flat-Rolled Inputs:

If the importer is acting on behalf of the first U.S. customer, complete this paragraph:

E. The SSSS covered by this certification was imported by {IMPORTING COMPANY} on behalf of {U.S. CUSTOMER}, located at {ADDRESS OF U.S. CUSTOMER};

F. The SSSS covered by this certification does not contain stainless steel flat-rolled inputs produced in the People's Republic of China (China);

G. I understand that {IMPORTING COMPANY} is required to maintain a copy of this certification and sufficient documentation supporting this certification (i.e., documents maintained in the normal course of business, or documents obtained by the certifying party, for example, certificates of origin, product data sheets, mill test reports, productions records, invoices, etc.) for the later of (1) a period of five years from the date of entry or (2) a period of three years after the conclusion of any litigation in the United States courts regarding such entries;

H. I understand that {IMPORTING COMPANY} is required to provide this certification and supporting records, upon request, to U.S. Customs and Border Protection (CBP) and/or the U.S. Department of Commerce (Commerce);

I. I understand that {IMPORTING COMPANY} is required to maintain a copy of the exporter's certification (attesting to the production and/or export of the imported merchandise identified above), and any supporting documentation provided by the exporter to the importer, for the later of (1) a period of five years from the date of entry or (2) a period of three years after the conclusion of any litigation in United States courts regarding such entries;

J. I understand that {IMPORTING COMPANY} is required to maintain and provide a copy of the exporter's certification and supporting documentation provided by the exporter to the importer, upon request, to CBP and/or Commerce;

K. I understand that the claims made herein, and the substantiating documentation, are subject to verification by CBP and/or Commerce;

L. I understand that failure to maintain the required certification and supporting documentation and/or failure to substantiate the claims made herein and/or failure to allow CBP and/or Commerce to verify the claims made herein, may result in a de facto determination that all entries to which this certification applies are within the scope of the antidumping duty (AD) and countervailing duty (CVD) orders on SSSS from China. I understand that such finding will result in:

○ suspension of liquidation of all unliquidated entries (and entries for which liquidation has not become final) for which these requirements were not met;

○ the requirement that the importer post applicable AD and/or CVD cash deposits (as appropriate) equal to the rates determined by Commerce; and

○ the revocation of {IMPORTING COMPANY}'s privilege to certify that future imports of SSSS were not produced using stainless steel flat-rolled inputs sourced from China subject to these certifications.

M. I understand that agents of the importer, such as brokers, are not permitted to make this certification;

N. This certification was completed by the time of filing the entry summary or within 45 days of the date on which Commerce published notice of its preliminary scope and circumvention findings in the Federal Register; and

O. I am aware that U.S. law (including, but not limited to, 18 U.S.C. 1001) imposes criminal sanctions on individuals who knowingly and willfully make material false statements to the U.S. government.

Signature

{NAME OF COMPANY OFFICIAL}

{TITLE}

{DATE}

Appendix IV

Exporter Certification

I hereby certify that:

A. My name is {COMPANY OFFICIAL'S NAME} and I am an official of {NAME OF EXPORTING COMPANY}, located at {ADDRESS OF EXPORTING COMPANY};

B. I have direct personal knowledge of the facts regarding the production and exportation in the Customs territory of the United States of the stainless steel sheet and strip (SSSS) identified below. “Direct personal knowledge” refers to facts the certifying party is expected to have in its own books and records. For example, an exporter should have “direct personal knowledge” of the producer's identity and location;

C. The SSSS covered by this certification does not contain stainless steel flat-rolled inputs produced in the People's Republic of China (China);

D. This certification applies to the following sales to {NAME OF U.S. CUSTOMER}, located at {ADDRESS OF U.S. CUSTOMER} (repeat this block as many times as necessary):

Foreign Seller's Invoice # to U.S. Customer:

Foreign Seller's Invoice to U.S. Customer Line item #:

Producer's Invoice # to Foreign Seller: (If the foreign seller and the producer are the same party, put NA here.)

Producer's Invoice # Foreign Seller: (If the foreign seller and the producer are the same party, put NA here.)

Producer of Stainless Steel Flat-Rolled Inputs' Name:

Location (Country) of Producer of Stainless Steel Flat-Rolled Inputs:

E. The SSSS products covered by this certification were shipped to {NAME OF U.S. PARTY TO WHOM MERCHANDISE WAS SHIPPED}, located at {U.S. ADDRESS TO WHICH MERCHANDISE WAS SHIPPED};

F. I understand that {EXPORTING COMPANY} is required to maintain a copy of this certification and sufficient documentation supporting this certification (i.e., documents maintained in the normal course of business, or documents obtained by the certifying party, for example, product data sheets, mill test reports, productions records, invoices, etc.) for the later of: (1) a period of five years from the date of entry; or (2) a period of three years after the conclusion of any litigation in the United States courts regarding such entries;

G. The shipments/products referenced herein shipped before mm/dd/yyyy, the date on which Commerce published notice of its preliminary scope and circumvention findings in the Federal Register. This certification was completed on mm/dd/yyyy, within 45 days of the Federal Register notice publication.

{Or}

The shipments/products referenced herein shipped on mm/dd/yyyy. This certification was completed on mm/dd/yyyy, within 45 days of the date on which Commerce published its preliminary scope and circumvention findings in the Federal Register.

{Or}

I understand that {EXPORTING COMPANY} must provide this Exporter Certification to the U.S. importer by the time of shipment;

H. I understand that failure to maintain the required certification and supporting documentation, failure to substantiate the claims made herein, and/or failure to allow U.S. Customs and Border Protection (CBP) and/or the U.S. Department of Commerce (Commerce) to verify the claims made herein, may result in a de facto determination that all entries to which this certification applies are within the scope of the antidumping duty (AD) and countervailing duty (CVD) orders on SSSS from China. I understand that such a finding will result in:

○ suspension of all unliquidated entries (and entries for which liquidation has not become final) for which these requirements were not met;

○ the requirement that the importer post applicable AD and/or CVD cash deposits (as appropriate) equal to the rates as determined by Commerce; and

○ the revocation of {EXPORTING COMPANY}'s privilege to certify that future imports of SSSS were not produced using stainless steel flat-rolled inputs sourced from China subject to these certifications.

I. This certification was completed at time of shipment or within 45 days of the date on which Commerce published notice of its preliminary scope and anti-circumvention findings in the Federal Register; and

J. I am aware that U.S. law (including, but not limited to, 18 U.S.C. 1001) imposes criminal sanctions on individuals who knowingly and willfully make material false statements to the U.S. government.

Signature

{NAME OF COMPANY OFFICIAL}

{TITLE}

{DATE}

[FR Doc. 2023-06500 Filed 3-28-23; 8:45 am]

BILLING CODE 3510-DS-P